DEPARTMENT OF THE INTERIOR

Bureau of Indian Affairs

[145A2100DD/AAK3000000/A0H501010/241A00]

Renewal of Agency Information Collection for Financial Assistance and Social Services

AGENCY: Bureau of Indian Affairs, Interior.

ACTION: Notice of submission to OMB.

SUMMARY: In compliance with the Paperwork Reduction Act of 1995, the Assistant Secretary—Indian Affairs is submitting to the Office of Management and Budget (OMB) a request for renewal for the collection of information for “Financial Assistance and Social Services Program, 25 CFR 20.” The information collection is currently authorized by OMB Control Number 1076-0017, which expires May 31, 2014.

DATES: Interested persons are invited to submit comments on or before June 18, 2014.

ADDRESSES: You may submit comments on the information collection to the Desk Officer for the Department of the Interior at the Office of Management and Budget, by facsimile to (202) 395-5806 or you may send an email to: OIRA_Submission@omb.eop.gov. Please send a copy of your comments to Evangeline M. Campbell, Chief, Division of Human Services, Office of Indian Services, Bureau of Indian Affairs, 1849 C Street NW., MS-4513-MIB, Washington, DC 20240; facsimile: (202) 208-5113; email: Evangeline.Campbell@bia.gov.

FOR FURTHER INFORMATION CONTACT: Evangeline M. Campbell, (202) 513-7621. You may review the information collection request online at http://www.reginfo.gov. Follow the instructions to review Department of the Interior collections under review by OMB.

SUPPLEMENTARY INFORMATION:

I. Abstract

The BIA is seeking to renew the information collection it conducts to provide assistance under 25 CFR 20 to eligible Indians when comparable financial assistance or social services either are not available or not provided by State, tribal, county, local, or other Federal agencies. Approval for this collection expires May 31, 2014. The information collection allows BIA to determine whether an individual is eligible for assistance and services. No third party notification or public disclosure burden is associated with this collection.

II. Request for Comments

The BIA requests your comments on this collection concerning: (a) The necessity of this information collection for the proper performance of the functions of the agency, including whether the information will have practical utility; (b) The accuracy of the agency's estimate of the burden (hours and cost) of the collection of information, including the validity of the methodology and assumptions used; (c) Ways we could enhance the quality, utility, and clarity of the information to be collected; and (d) Ways we could minimize the burden of the collection of the information on the respondents.

Please note that an agency may not conduct or sponsor, and an individual need not respond to, a collection of information unless it displays a valid OMB Control Number.

It is our policy to make all comments available to the public for review at the location listed in the ADDRESSES section. Before including your address, phone number, email address or other personal identifying information in your comment, you should be aware that your entire comment—including your personal identifying information—may be made publicly available at any time. While you can ask us in your comment to withhold your personal identifying information from public review, we cannot guarantee that we will be able to do so.

III. Data

OMB Control Number: 1076-0017.

Title: Financial Assistance and Social Services Program, 25 CFR Part 20.

Brief Description of Collection: Submission of this information is required of Indian applicants for BIA financial assistance and social services. BIA uses the information to determine if an individual is eligible for services and, where appropriate, to conduct an employability assessment and jointly develop with the individual an Individual Self-Sufficiency Plan outlining how the individual can attain self-sufficiency. A response is required to obtain or retain a benefit.

Type of Review: Extension without change of currently approved collection.

Respondents: Individual Indians seeking financial assistance or social services from BIA.

Number of Respondents: 240,000 provide information on the application; of those, 95,000 contribute information to an employability assessment and ISP.

Total Number of Responses: 335,000.

Frequency of Response: Once per respondent.

Estimated Time per Response: One half hour for the application and 1 hour for the employability assessment and ISP.

Estimated Total Annual Hour Burden: 215,000 hours ((240,000 × .5 hours for applications) + (95,000 × 1 hour for employability assessment and ISP)).

Estimated Total Annual Non-Hour Dollar Cost: $0.

Dated: May 13, 2014.
John Ashley,
Acting Assistant Director for Information Resources.

[FR Doc. 2014-11539 Filed 5-16-14; 8:45 am]

BILLING CODE 4310-02-P